COMMISSION ON CIVIL RIGHTS

Agenda and Notice of Public Meeting of the North Dakota Advisory Committee

AGENCY: Commission on Civil Rights.

ACTION: Announcement of meetings.

SUMMARY: Notice is hereby given, pursuant to the provisions of the rules and regulations of the U.S. Commission on Civil Rights (Commission), and the Federal Advisory Committee Act (FACA), that briefings of the North Dakota Advisory Committee to the Commission will be held on the following Tuesdays: July 7, at 1:30 p.m. (CDT) and July, 14 and July 21, 2020 at 12:00 p.m. (CDT). The purpose of the briefings is to hear from presenters on fair housing issues in North Dakota.

Dates and Times: Tuesdays: July 7, 2020 at 1:30 p.m. (CDT) and July 14 and July 21 at 12:00 p.m. (CDT).

Public Call-In Information: 1-800-367-2403; conference ID: 5743407.

TDD: Dial Federal Relay Service 1-800-877-8339 and give the operator the above numbers.

FOR FURTHER INFORMATION CONTACT: Evelyn Bohor, at ebohor@usccr.gov or by phone at (202) 376-7533.

SUPPLEMENTARY INFORMATION: Interested members of the public may listen to the discussion by calling the following toll-free conference call-in number: 1-800-367-2403; conference ID: 5743407. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 1-800-367-2403; conference ID: 5743407.

Members of the public are invited to make statements during the open comment period of the briefings or submit written comments. The comments must be received in the regional office approximately 30 days after each scheduled meeting. Written comments may be emailed to Evelyn Bohor at ebohor@usccr.gov. Persons who desire additional information may contact Evelyn Bohor at 202-921-2212.

Records and documents discussed during the briefings will be available for public viewing as they become available at this FACA link; click the “Meeting Details” and “Documents” links. Persons interested in the work of this advisory committee are advised to go to the Commission's website, www.usccr.gov, or to contact the agency at the above phone number or email address.

Agenda: Tuesdays: July 7, 2020 at 1:30 p.m. (CDT) and July 14 and July 21 at 12:00 p.m. (CDT)

• Roll call

• Panel for Fair Housing Project

• Open Comment

• Next Steps

• Other Business

• Adjourn

Dated: June 19, 2020.
David Mussatt,
Supervisory Chief, Regional Programs Unit.

[FR Doc. 2020-13603 Filed 6-23-20; 8:45 am]

BILLING CODE 6335-01-P